DEPARTMENT OF ENERGY

Federal Energy Regulatory Commission

[Docket No. RP03-280-001]

Columbia Gas Transmission Corporation; Notice of Compliance Filing

April 18, 2003.

Take notice that on April 15, 2003, Columbia Gas Transmission Corporation (Columbia Gas) made its filing in compliance with the Commission's order issued March 31, 2003, in this proceeding (See Columbia Gas Transmission Corp., 102 FERC ¶ 61,347 (2003)(March 31 Order). In this filing, Columbia states that it is submitting the information requested by the March 31 Order.

Columbia states that copies of its filing have been mailed to all parties on the official service list in Docket No. RP03-280.

Any person desiring to protest said filing should file a protest with the Federal Energy Regulatory Commission, 888 First Street, NE., Washington, DC 20426, in accordance with section 385.211 of the Commission's rules and regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 28, 2003.

Magalie R. Salas,
Secretary.

[FR Doc. 03-10210 Filed 4-23-03; 8:45 am]

BILLING CODE 6717-01-P